COMMITTEE FOR PURCHASE FROM PEOPLE WHO ARE BLIND OR SEVERELY DISABLED

Clarification of Sourcing Requirements for the Procurement List

AGENCY: Committee for Purchase From People Who Are Blind or Severely Disabled.

ACTION: Clarification of Sourcing Requirements for Commodities and other Products on the Procurement List that have been identified as Satisfying Government-wide Requirements

SUMMARY: The Committee for Purchase From People Who Are Blind or Severely Disabled (operating as the U.S. AbilityOne Commission (Commission)) is clarifying the sourcing requirements for commodities and other products on the Procurement List that have been identified for satisfying Government-wide requirements and thus subject to the AbilityOne Program's Government-wide procurement preference. The full list of products with this Government-wide procurement preference furnished under the auspices of the Javits-Wagner-O'Day Act (41 U.S.C. 8501-8506) and the AbilityOne Program is posted at www.abilityone.gov. Changes to the responsible contracting activity designations as published in the Federal Register on December 1, 2006, are identified in this notice.

DATES: Effective Date: The changes delineated are effective the date of this notice.

ADDRESSES: Committee for Purchase From People Who Are Blind or Severely Disabled, 1401 S. Clark Street, Arlington, VA 22202—4149.

FOR FURTHER INFORMATION CONTACT: Barry S. Lineback, Telephone 703-603-2118, Fax: 703-603-0655, or email cmtefedreg@abilityone.gov.

SUPPLEMENTARY INFORMATION: The Commission previously published a notice in the Federal Register (71 FR 69535, Dec 1, 2006) that established the General Services Administration (GSA) as the AbilityOne Program's only responsible contracting activity for products within the first category (the A List) and second category (the B List) purchased by Federal employees. The responsible contracting activity for products within the third category (the C List) is a Government agency (civil and military) which represents the end-users of the specialized or niche product(s) within this category.

In order to take full advantage of the Department of Defense (DoD) 4140.1-R, DoD Supply Chain Materiel Management Regulation, the AbilityOne Program is designating the Defense Logistics Agency (DLA) as an additional contracting activity for products within the A List and B List categories. The DoD 4140.1-R, May 23, 2003, AP7: Appendix 7, Agreement between the Department of Defense and the General Services Administration Governing Supply Management Relationships Under the National Supply System provides DLA the authority to procure and supply certain assigned products for the entire Government within the terms of that Agreement. The AbilityOne Program's addition of DLA as an additional contracting activity for products that have the Procurement List procurement preference across all entities of the Government (A List) or that have purchasing preference across a broad selection of Federal agencies (B List) is supported by this regulation. This change enhances the availability of AbilityOne Program products to Government agencies (civil and military) regardless of which organization (DLA or GSA) manages a particular Federal Supply Classification.

When proposing to add a product to its Procurement List, the Commission's notices published in the Federal Register will continue to identify the category group (A List, B List, or C List) as described in its December 2006 Federal Register notice. The notices will also identify the relevant contracting activity responsible for aggregating requirements with AbilityOne products that have purchasing preference. All other aspects of the December 2006 Federal Register notice remain in effect.

Patricia Briscoe,
Director, Business Operations (Pricing and Information Management).

[FR Doc. 2013-17983 Filed 7-25-13; 8:45 am]

BILLING CODE 6353-01-P